DEPARTMENT OF ENERGY

Federal Energy Regulatory Commission

[Project Nos. 2403-056; 2721-020; 2312-019]

Penobscot River Restoration Trust; Notice of Availability of Final Environmental Assessment

May 18, 2010.

In accordance with the National Environmental Policy Act of 1969 and the Federal Energy Regulatory Commission's regulations, 18 CFR part 380 (Order No. 486,52 FR 47879) the Office of Energy Projects has prepared an Final Environmental Assessment (FEA) for an application filed by the Penobscot River Restoration Trust (licensee) on November 7, 2008, requesting Commission approval to surrender the project licenses for the Veazie, Great Works, and Howland Hydroelectric Projects, located on the Penobscot and Piscataquis Rivers in Penobscot County, Maine. The licensee proposes to surrender the project licenses and remove the Veazie and Great Works Dams, and construct a nature-like fish bypass around the Howland Dam. Surrender of the projects' licenses is a component of the Lower Penobscot River Basin Comprehensive Settlement Agreement.

The FEA evaluates the environmental impacts that would result from approving the licensee's proposed surrenders. The FEA finds that approval of the application would not constitute a major Federal action significantly affecting the quality of the human environment. A copy of the FEA is on file with the Commission and is available for public inspection. The FEA may also be viewed on the Commission's Web site at http://www.ferc.gov using the “eLibrary” link. Enter the docket number (P-2403, P-2312, or P-2721) excluding the last three digits in the docket number field to access the document. For assistance, contact FERC Online Support at FERCOnlineSupport@ferc.gov or toll-free at 1-866-208-3372, or for TTY, (202) 502-8659.

For further information, contact Christopher Yeakel at (202) 502-8132.

Kimberly D. Bose,
Secretary.

[FR Doc. 2010-12500 Filed 5-24-10; 8:45 am]

BILLING CODE 6717-01-P